DEPARTMENT OF JUSTICE

Antitrust Division

Notice Pursuant to the National Cooperative Research and Production Act of 1993—Window & Door Manufacturers Association

Notice is hereby given that, on September 21, 2004, pursuant to section 6(a) of the National Cooperative Research and Production Act of 1993, 15 U.S.C. 4301 et seq. (“the Act”), Window & Door Manufacturers Association (“WDMA”) has filed written notifications simultaneously with the Attorney General and the Federal Trade Commission disclosing (1) the name and principle place of business of the standards development organization and (2) the nature and scope of its standards development activities. The notifications were filed for the purpose of invoking the Act's provision limiting the recovery of antitrust plaintiffs to actual damages under specified circumstances.

Pursuant to section 6(b) of the Act, the name and principal place of business of the standards development organization is: Window & Door Manufacturers Association, Des Plaines, IL. The nature and scope of WDMA's standards development activities are: WDMA develops voluntary consensus industry standards pertaining to the design and manufacture of products, and the components of the products, of the window, skylight and door industry. WDMA is currently recognized by the American National Standards Institute (ANSI) as an Accredited Standards Developing Organization (SDO).

Dorothy B. Fountain,
Deputy Director of Operations, Antitrust Division.

[FR Doc. 04-25870 Filed 11-19-04; 8:45 am]

BILLING CODE 4410-11-M